DEPARTMENT OF COMMERCE

International Trade Administration

[A-583-837]

Polyethylene Terephthalate Film, Sheet, and Strip From Taiwan: Final Results of Antidumping Duty Administrative Review

AGENCY: Import Administration, International Trade Administration, Department of Commerce.

SUMMARY: On August 16, 2010, the Department of Commerce (the Department) published the preliminary results of administrative review of the antidumping duty order on polyethylene terephthalate film (PET Film) from Taiwan. See Polyethylene Terephthalate Film, Sheet, and Strip From Taiwan: Preliminary Results of Antidumping Duty Administrative Review, 75 FR 49902 (August 16, 2010) (Preliminary Results). The review was requested by DuPont Teijin Films, Mitsubishi Polyester Film of America, SKC, Inc., and Toray Plastics (America), Inc. (collectively, Petitioners). This review covers the following producers/exporters of the subject merchandise: Nan Ya Plastics Corporation, Ltd. (Nan Ya), and Shinkong Synthetic Fibers Corporation (SSFC) and Shinkong Materials Technology Co., Ltd. (SMTC) (collectively, Shinkong). The period of review (POR) is July 1, 2008, through June 30, 2009. Based on the results of our analysis of the comments received, we have made changes to the preliminary results, which are discussed in the “Changes Since the Preliminary Results” section, below. For the final dumping margins, see the “Final Results of Review” section, below.

DATES: Effective Date: February 22, 2011.

FOR FURTHER INFORMATION CONTACT: Gene Calvert or Jun Jack Zhao, AD/CVD Operations, Office 6, Import Administration, International Trade Administration, U.S. Department of Commerce, 14th Street and Constitution Avenue, NW., Washington, DC 20230; telephone: (202) 428-3586 or (202) 428-1396, respectively.

SUPPLEMENTARY INFORMATION:

Background

On August 16, 2010, the Department published in the Federal Register the Preliminary Results. In the Preliminary Results, the Department preliminarily determined that, pursuant to 19 CFR 351.401(f), SSFC and SMTC should be treated as a single entity for purposes of calculating an antidumping margin. The Department also found that despite the passing of a single family member, Nan Ya was still affiliated with three U.S. customers through a family grouping. Subsequent to the publication of the Preliminary Results, these affiliated U.S. customers submitted revised sales datasets, as requested by the Department, to correct information regarding their reported product matching information, and to correct problems preventing the accurate consolidation of their sales data with Nan Ya's datasets. As a result, Nan Ya's margin has changed for these final results.

On December 10, 2010, the Department extended the deadline for issuing the final results until no later than February 14, 2011. See Polyethylene Terephthalate Film, Sheet, and Strip From Taiwan: Extension of Time Limit for Final Results of the Antidumping Duty Administrative Review, 75 FR 76954 (December 10, 2010).

On December 22, 2010, the Department determined that amorphous polyethylene terephthalate (APET) film products that are not biaxially-oriented, such as the APET products produced by Nan Ya, are not covered by the scope of the antidumping order on PET Film from Taiwan. See Memorandum from Barbara E. Tillman, Director, AD/CVD Operations, Office 6, to Christian Marsh, Deputy Assistant Secretary for Antidumping and Countervailing Duty Operations, “Polyethylene Terephthalate Film, Sheet, and Strip from Taiwan: Final Scope Ruling on Amorphous Polyethylene Terephthalate Film,” December 22, 2010 (Scope Memorandum). The Department reached this conclusion after analyzing findings of the U.S. International Trade Commission regarding the delimiting nature of biaxial-orientation as a product characteristic of subject PET Film, as well as the Department's previous determination that biaxially-oriented APET is not within the scope of the antidumping duty (AD) order on PET Film from the People's Republic of China (PRC), for which the scope is essentially identical to the scope in the subject case, except for language excluding Roller transport cleaning film, and tracing and drafting film from the PRC AD order. See Memorandum to John M. Andersen, “Polyethylene Terephthalate Film, Sheet, and Strip from the People's Republic of China: Final Scope Ruling on Amorphous Polyethylene Terephthalate Sheet, Glycol-modified Polyethylene Terephthalate Sheet, and Co-extruded Amorphous Polyethylene Terephthalate Sheet with Glycol-modified Polyethylene Terephthalate Sheets on the Outer Surfaces,” January 7, 2010. As we noted in the Scope Memorandum, the exclusionary language referenced above was not relevant to the scope ruling with respect to the instant proceeding. Both Nan Ya and Shinkong informed the Department that they did not report sales of any merchandise within the scope ruling. Thus, no adjustments were needed to the Preliminary Results as a result of the scope ruling for either company.

The Department noted in the Preliminary Results that additional supplemental questions regarding quarterly cost information had been issued to both Nan Ya and Shinkong to determine whether it was appropriate to use shorter cost averaging periods in calculating cost of production and constructed value. After reviewing responses to these questionnaires, on December 23, 2010, the Department issued post-preliminary results of review and determined that the use of an alternative cost averaging methodology (i.e., quarterly cost) was not warranted. Thus, the post-preliminary results of review resulted in no changes to either respondent's AD margin. See Memorandum from Mark Hoadley, Program Manager, Office 6, to Christian Marsh, Acting Deputy Assistant Secretary for Import Administration, “2008-2009 Administrative Review of the Antidumping Duty Order on Polyethylene Terephthalate (PET) Film from Taiwan: Post-Preliminary Analysis and Calculation Memorandum for Nan Ya Plastics Corporation, Ltd. (Nan Ya) and Shinkong Synthetic Fibers Corporation (Shinkong)” (Post-Preliminary Analysis Memorandum), December 23, 2010.

With the release of the Post-Preliminary Analysis Memorandum, the Department notified interested parties that they were to file their case briefs with the Department by January 7, 2011, and rebuttal briefs were to be filed by January 13, 2011, in accordance with 19 CFR 351.309(d)(1). See Memorandum from Gene Calvert, International Trade Compliance Analyst, AD/CVD Operations, Office 6 to All Interested Parties, “Deadlines for the Submission of Case Briefs and Rebuttal Briefs for the Final Results in the Administrative Review,” December 27, 2010. The Department received a timely case brief on January 7, 2011 from Petitioners raising certain issues with regard to Shinkong. Shinkong filed a rebuttal brief with the Department on January 13, 2011. Based on our analysis of the comments received, the weighted average margin for Shinkong has changed from the calculated margin in the Preliminary Results.

Period of Review

The POR is July 1, 2008, through June 30, 2009.

Scope of the Order

The products covered by the antidumping order are all gauges of raw, pretreated, or primed polyethylene terephthalate film, whether extruded or coextruded. Excluded are metallized films and other finished films that have had at least one of their surfaces modified by the application of a performance-enhancing resinous or inorganic layer more than 0.00001 inches thick. Imports of PET Film are currently classifiable in the Harmonized Tariff Schedule of the United States (HTSUS) under item number 3920.62.00. HTSUS subheadings are provided for convenience and customs purposes. The written description of the scope of this proceeding is dispositive.

Analysis of Comments Received

The issues raised in the case and rebuttal briefs by parties to this administrative review are addressed in the Memorandum from Christian Marsh, Deputy Assistant Secretary for Antidumping and Countervailing Duty Operations, to Ronald K. Lorentzen, Deputy Assistant Secretary for Import Administration, “Antidumping Duty Administrative Review of Polyethylene Terephthalate Film, Sheet, and Strip from Taiwan: Issues and Decision Memorandum for the Final Results” (Decision Memorandum), dated concurrently with this notice, which is hereby adopted by this notice. A list of the issues addressed in the Decision Memorandum is appended to this notice. The Decision Memorandum is on file in the Department's Central Records Unit (Room 7046 in the main Department of Commerce building), and can be accessed directly on the Internet at http://ia.ita.doc.gov/frn. The paper copy and electronic version of the Decision Memorandum are identical in content.

Changes Since the Preliminary Results

Based on our analysis of the comments received, we have made adjustments to our margin calculations for Shinkong. Specifically, we have recalculated Shinkong's general and administrative (G&A) expenses, including certain costs associated with the sale of supplies, and excluding packing costs. We have also altered the manner in which we combined the G&A expenses of SSFC and SMTC (i.e., the two companies collapsed to form “Shinkong”). Finally, we limited Shinkong's sales date to no later than shipment date. These adjustments are discussed in detail in the Decision Memorandum referenced above.

Final Results of Review

As a result of our review, we determine that the following weighted-average margins exist for the period of July 1, 2008, through June 30, 2009:

Manufacturer/exporter | Weighted-Average Margin (percent)
Nan Ya Plastics Corporation, Ltd. | 20.76
Shinkong Synthetic Fibers Corporation and Shinkong Materials Technology Co., Ltd. | 6.38

Assessment Rates

The Department shall determine, and U.S. Customs and Border Protection (CBP) shall assess, antidumping duties on all appropriate entries. We will instruct CBP to liquidate entries of merchandise produced and/or exported by Nan Ya and Shinkong. For assessment purposes, where the respondents reported the entered value for their sales, we calculated importer-specific (or customer-specific) ad valorem assessment rates based on the ratio of the total amount of the dumping duties calculated for the examined sales to the total entered value of those same sales. See 19 CFR 351.212(b). However, where the respondents did not report the entered value for their sales, we will calculate importer-specific (or customer-specific) per unit duty assessment rates. The Department intends to issue appropriate assessment instructions directly to CBP 15 days after the date of publication of these final results of review.

The Department clarified its “automatic assessment” regulation on May 6, 2003. See Antidumping and Countervailing Duty Proceedings: Assessment of Antidumping Duties, 68 FR 23954 (May 6, 2003). This clarification will apply to entries of subject merchandise during the POR produced by the companies included in these final results of review for which the reviewed companies did not know their merchandise was destined for the United States. In such instances, we will instruct CBP to liquidate non-reviewed entries at the all-others rate of 2.40 percent from the investigation if there is no rate for the intermediate company(ies) involved in the transaction. See Notice of Amended Final Antidumping Duty Determination of Sales at Less Than Fair Value and Antidumping Duty Order: Polyethylene Terephthalate Film, Sheet, and Strip (PET Film) from Taiwan, 67 FR 44174 (July 1, 2002) (Investigation Final Determination).

Cash Deposit Requirements

The following deposit requirements will be effective upon publication of the final results of this administrative review for all shipments of subject merchandise entered, or withdrawn from warehouse, for consumption on or after the publication date of these final results, as provided by section 751(a)(2)(C) of the Act: (1) For the companies covered by this review, the cash deposit rate will be the rates listed above; (2) for merchandise exported by producers or exporters not covered in this review but covered in a previous segment of this proceeding, the cash deposit rate will continue to be the company-specific rate published in the most recent final results in which that producer or exporter participated; (3) if the exporter is not a firm covered in this review or in any previous segment of this proceeding, but the producer is, the cash deposit rate will be that established for the producer of the merchandise in these final results of review or in the most recent final results in which that producer participated; and, (4) if neither the exporter nor the producer is a firm covered in this review or in any previous segment of this proceeding, the cash deposit rate will be 2.40 percent, the all-others rate established in the less than fair value investigation. See Investigation Final Determination. These deposit requirements shall remain in effect until further notice.

Notification to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred, and in the subsequent assessment of double antidumping duties.

Notification Regarding Administrative Protective Orders

This notice is the only reminder to parties subject to the administrative protective order (APO) of their responsibility concerning the return or destruction of proprietary information disclosed under the APO in accordance with 19 CFR 351.305(a)(3). Timely written notification of the return or destruction of APO materials or conversion to judicial protective order is hereby requested. Failure to comply with the regulations and the terms of an APO is a sanctionable violation.

We are issuing and publishing these final results and this notice in accordance with sections 751(a)(1) and 777(i)(1) of the Act.

Dated: February 14, 2011.
Ronald K. Lorentzen,
Deputy Assistant Secretary for Import Administration.

Appendix I—Issues in Decision Memorandum Polyethylene Terephthalate Film, Sheet, and Strip From Taiwan Final Results of Antidumping Duty Administrative Review for the Period: 07/01/2008-06/30/2009

Comment 1: Shinkong's Cost Data do not Account for the Physical Characteristics of the Subject Merchandise

Comment 2: Shinkong Understates its Adjustment for General and Administrative Expenses

Comment 3: The Date of Sale for Shinkong's U.S. Sales

[FR Doc. 2011-3892 Filed 2-18-11; 8:45 am]

BILLING CODE 3510-DS-P